DEPARTMENT OF THE TREASURY

Office of Foreign Assets Control

Unblocking of Specially Designated Nationals and Blocked Persons Pursuant to Executive Order 12978

AGENCY: Office of Foreign Assets Control, Treasury.

ACTION: Notice.

SUMMARY: The Treasury Department's Office of Foreign Assets Control (“OFAC”) is publishing the names of forty-nine individuals whose property and interests in property have been unblocked pursuant to Executive Order 12978 of October 21, 1995, Blocking Assets and Prohibiting Transactions With Significant Narcotics Traffickers.

DATES: The unblocking and removal from the list of Specially Designated Nationals and Blocked Persons (“SDN List”) of the individuals identified in this notice whose property and interests in property were blocked pursuant to Executive Order 12978 of October 21, 1995, is effective on July 1, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) via facsimile through a 24-hour fax-on-demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad. Section 1 of the Order blocks, with certain exceptions, all property and interests in property that are in the United States, or that hereafter come within the United States or that are or hereafter come within the possession or control of United States persons, of: (1) The persons listed in an Annex to the Order; (2) any foreign person determined by the Secretary of the Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On July 1, 2009, the Director of OFAC removed from the SDN List the forty-nine individuals listed below, whose property and interests in property were blocked pursuant to the Order.

The listing of the unblocked individuals follows:

ACEVEDO SAENZ, Delcy Patricia, c/o CAJA SOLIDARIA, Bogota, Colombia; c/o COPSERVIR LTDA., Bogota, Colombia; c/o SEGECOL LTDA., Bucaramanga, Colombia; Cedula No. 63355575 (Colombia) (individual) [SDNT].

ANTIA SIERRA, Diurny Lorena, c/o COOPERATIVA MERCANTIL COLOMBIANA COOMERCOL, Cali, Colombia; DOB 28 Sep 1975; Cedula No. 66877933 (Colombia); Passport 66877933 (Colombia) (individual) [SDNT].

ARDILA A., Gabriel, c/o CAJA SOLIDARIA, Bogota, Colombia; c/o COOPIFARMA, Bucaramanga, Colombia; c/o COPSERVIR LTDA., Bogota, Colombia; Carrera 100 No. 44B-10 ap. 102, Bogota, Colombia; Cedula No. 91177297 (Colombia) (individual) [SDNT].

BALLESTAS ARRIETA, Arturo Carlos, c/o CAJA SOLIDARIA, Bogota, Colombia; c/o COOMULCOSTA, Barranquilla, Colombia; c/o COPSERVIR LTDA., Bogota, Colombia; Cedula No. 8706711 (Colombia) (individual) [SDNT]

BARRAZA REYES, Raquel Emilia, c/o CAJA SOLIDARIA, Bogota, Colombia; c/o COOMULCOSTA, Barranquilla, Colombia; c/o COPSERVIR LTDA., Bogota, Colombia; Cedula No. 22636674 (Colombia) (individual) [SDNT].

BENAVIDES VASQUEZ, Jorge, c/o CAJA SOLIDARIA, Bogota, Colombia; c/o COPSERVIR LTDA., Bogota, Colombia; c/o FARMAVISION LTDA., Bogota, Colombia; Cedula No. 9397198 (Colombia) (individual) [SDNT].

BLANCO ORTEGA, Marylin, c/o COOPDISAN, Bucaramanga, Colombia; c/o DROGAS LA REBAJA BUCARAMANGA S.A., Bucaramanga, Colombia; c/o COMUDROGAS LTDA., Bucaramanga, Colombia; Passport 63332075 (Colombia); Cedula No. 63332075 (Colombia) (individual) [SDNT].

CABALLERO, Oliverio, c/o CAJA SOLIDARIA, Bogota, Colombia; c/o COOPIFARMA, Bucaramanga, Colombia; c/o COPSERVIR LTDA., Bogota, Colombia; Calle 47B Sur Bloque 7-8 Manz. E ap.101, Bogota, Colombia; Cedula No. 79473097 (Colombia) (individual) [SDNT].

CADAVID MAYA, Uriel, c/o COOPERATIVA DE TRABAJO ASOCIADO ACTIVAR, Bogota, Colombia; c/o COPSERVIR LTDA., Bogota, Colombia; Carrera 6 No. 11-43 of. 505, Cali, Colombia; Carrera 9 No. 9-65, Florida, Valle, Colombia; DOB 16 Nov 1967; Cedula No. 16885028 (Colombia) (individual) [SDNT].

CALDERON ASCANIO, Mercedes, c/o SEGECOL LTDA., Bucaramanga, Colombia; Cedula No. 63319306 (Colombia) (individual) [SDNT].

CALDERON OLIVAR, Rafael Alfredo, c/o COOMULCOSTA, Barranquilla, Colombia; c/o DISTRIBUIDORA DE DROGAS LA REBAJA PEREIRA S.A., Pereira, Colombia; c/o LITOPHARMA, Barranquilla, Colombia; Cedula No. 19582440 (Colombia) (individual) [SDNT].

CARDENAS GONGORA, Luis Fernando, c/o LATINFARMACOS S.A., Quito, Ecuador; RUC # 1719649129001 (Ecuador); Cedula No. 10105501 (Colombia) [SDNT].

CARDONA ACEVEDO, Carlos Arturo, c/o RIONAP COMERCIO Y REPRESENTACIONES S.A., Quito, Ecuador; RUC # 1791819624001 (Ecuador); Cedula No. 4383319 (Colombia) [SDNT].

CASILIMAS ESCOBAR, Lia Patricia, c/o COPSERVIR LTDA., Bogota, Colombia; c/o SU SERVICIO SOCIEDAD LTDA., Barranquilla, Colombia; Cedula No. 32761550 (Colombia) (individual) [SDNT].

CLAROS, Dario, c/o CAJA SOLIDARIA, Bogota, Colombia; c/o COOPCREAR, Bogota, Colombia; c/o COOPERATIVA DE TRABAJO ASOCIADO ACTIVAR, Bogota, Colombia; c/o COOPERATIVA MULTIACTIVA DE COLOMBIA FOMENTAMOS, Bogota, Colombia; c/o LITOPHARMA, Barranquilla, Colombia; c/o SOLUCIONES COOPERATIVAS, Bogota, Colombia; Cedula No. 83180350 (Colombia) (individual) [SDNT].

DE LA HOZ BULA, Hugo Rafael, c/o COOMULCOSTA, Barranquilla, Colombia; c/o COPSERVIR LTDA., Bogota, Colombia; Cedula No. 8742278 (Colombia) (individual) [SDNT].

FIGUEROA PERALTA, Eduardo Alberto, c/o CAJA SOLIDARIA, Bogota, Colombia; c/o COOMULCOSTA, Barranquilla, Colombia; c/o COPSERVIR LTDA., Bogota, Colombia; c/o LITOPHARMA, Barranquilla, Colombia; Calle 63 No. 16-61, Barranquilla, Colombia; Cedula No. 8747807 (Colombia) (individual) [SDNT].

GOMEZ PABON, Humberto Henoc, c/o COPSERVIR LTDA., Bogota, Colombia; c/o TRIMARK LTDA., Bogota, Colombia; Cedula No. 7557394 (Colombia) (individual) [SDNT].

GOMEZ SUAREZ, Jose Alonso, c/o COOPDISAN, Bucaramanga, Colombia; c/o DROGAS LA REBAJA BUCARAMANGA S.A., Bucaramanga, Colombia; DOB 8 Jan 1956; Cedula No. 91066409 (Colombia); Passport 91066409 (Colombia) (individual) [SDNT].

GUTIERREZ, Teobaldo Jesus, c/o CAJA SOLIDARIA, Bogota, Colombia; c/o COPSERVIR LTDA., Bogota, Colombia; c/o LITOPHARMA, Barranquilla, Colombia; Cedula No. 72167412 (Colombia) (individual) [SDNT].

GUZMAN TROCHA, Luis Fernando, c/o CAJA SOLIDARIA, Bogota, Colombia; c/o COPSERVIR LTDA., Bogota, Colombia; c/o LITOPHARMA, Barranquilla, Colombia; Cedula No. 72170509 (Colombia) (individual) [SDNT].

HERNANDEZ VASQUEZ, Gladys Darlen, c/o CAJA SOLIDARIA, Bogota, Colombia; c/o COOPIFARMA, Bucaramanga, Colombia; c/o COPSERVIR LTDA., Bogota, Colombia; c/o FARMAVISION LTDA., Bogota, Colombia; Carrera 34A No. 10-27 Sur, Bogota, Colombia; Cedula No. 52026909 (Colombia) (individual) [SDNT].

HERRERA AGUILERA, Gabriel, c/o COOPDISAN, Bucaramanga, Colombia; c/o DROGAS LA REBAJA BUCARAMANGA S.A., Bucaramanga, Colombia; Cedula No. 91236347 (Colombia); Passport 91236347 (Colombia) (individual) [SDNT].

HERRERA CARDONA, Libia Constanza, c/o COPSERVIR LTDA., Bogota, Colombia; c/o TRIMARK LTDA., Bogota, Colombia; Cedula No. 66978250 (Colombia) (individual) [SDNT].

IDARRAGA ORTIZ, Rogelio, c/o CAJA SOLIDARIA, Bogota, Colombia; c/o COPSERVIR LTDA., Bogota, Colombia; DOB 10 Jan 1944; Cedula No. 3417272 (Colombia); Passport 3417272 (Colombia) (individual) [SDNT].

JIMENEZ CARDENAS, Amparo, c/o COOPERATIVA MERCANTIL DEL SUR LTDA., Pasto, Colombia; Cedula No. 30726230 (Colombia); Passport 30726230 (Colombia); (individual) [SDNT].

LINARES GUZMAN, Juan Carlos, c/o CAJA SOLIDARIA, Bogota, Colombia; c/o COPSERVIR LTDA., Bogota, Colombia; c/o LITOPHARMA, Barranquilla, Colombia; c/o TRIMARK LTDA., Bogota, Colombia; Carrera 6B No. 33B-80, Barranquilla, Colombia; Cedula No. 72185736 (Colombia) (individual) [SDNT].

LUGO PALACIOS, Julian Alberto, c/o COOPERATIVA MERCANTIL COLOMBIANA COOMERCOL, Cali, Colombia; c/o COPSERVIR LTDA., Bogota, Colombia; DOB 8 Aug 1972; Cedula No. 94381586 (Colombia); Passport 94381586 (Colombia) (individual) [SDNT].

MARIMON SARMIENTO, Nayfe Maria, c/o COPSERVIR LTDA., Bogota, Colombia; c/o LITOPHARMA, Barranquilla, Colombia; Calle 6 No. 8-19, Salgar, Puerto Colombia, Colombia; Cedula No. 22583054 (Colombia) (individual) [SDNT].

MARTINEZ VASQUEZ, Beatriz Elena, c/o CAJA SOLIDARIA, Bogota, Colombia; c/o COPSERVIR LTDA., Bogota, Colombia; c/o LITOPHARMA, Barranquilla, Colombia; Cedula No. 22437371 (Colombia) (individual) [SDNT].

MEDINA CASTILLO, Sandro, c/o SU SERVICIO SOCIEDAD LTDA., Bogota, Colombia; c/o LITOPHARMA, Barranquilla, Colombia; Cedula No. 8538055 (Colombia) (individual) [SDNT].

MENDOZA ROJAS, Monica Jazmin, c/o COOPDISAN, Bucaramanga, Colombia; c/o COPSERVIR LTDA., Bogota, Colombia; c/o SEGECOL LTDA., Bucaramanga, Colombia; Cedula No. 37728726 (Colombia) (individual) [SDNT].

MONSALVO RUIZ, Elkin Miguel, c/o CAJA SOLIDARIA, Bogota, Colombia; c/o COPSERVIR LTDA., Bogota, Colombia; c/o LITOPHARMA, Barranquilla, Colombia; Calle 35B No. 17-143, Barranquilla, Colombia; Cedula No. 72186915 (Colombia) (individual) [SDNT].

MONTERO MARTINEZ, Rafael Antonio, c/o CAJA SOLIDARIA, Bogota, Colombia; c/o COPSERVIR LTDA., Bogota, Colombia; c/o SU SERVICIO SOCIEDAD LTDA., Barranquilla, Colombia; Cedula No. 8778405 (Colombia) (individual) [SDNT].

MORENO MUNOZ, Liliana Judith, c/o CAJA SOLIDARIA, Bogota, Colombia; c/o COPSERVIR LTDA., Bogota, Colombia; c/o LITOPHARMA, Barranquilla, Colombia; c/o SU SERVICIO SOCIEDAD LTDA., Barranquilla, Colombia; Carrera 6 No. 72-68, Barranquilla, Colombia; Cedula No. 32751536 (Colombia) (individual) [SDNT].

MUNERA FERNANDEZ, Pablo Jesus, c/o CAJA SOLIDARIA, Bogota, Colombia; c/o COOMULCOSTA, Barranquilla, Colombia; c/o COPSERVIR LTDA., Bogota, Colombia; Cedula No. 8719504 (Colombia) (individual) [SDNT].

NAVARRO HERNANDEZ, Yanet, c/o CAJA SOLIDARIA, Bogota, Colombia; c/o COPSERVIR LTDA., Bogota, Colombia; c/o LITOPHARMA, Barranquilla, Colombia; Cedula No. 32728558 (Colombia) (individual) [SDNT].

PADILLA ORTIZ, Marino, c/o CAJA SOLIDARIA, Bogota, Colombia; c/o COPSERVIR LTDA., Bogota, Colombia; c/o MEGAPHARMA LTDA., Bogota, Colombia; Carrera 97 No. 39-75, Bogota, Colombia; DOB 1 Aug 1965; Cedula No. 80408422 (Colombia) (individual) [SDNT].

PALMA RODRIGUEZ, Geovanny, (a.k.a. PALMA RODRIGUEZ, Giovanny) (a.k.a. PALMA RODRIGUEZ, Giovanni) c/o COPSERVIR LTDA., Bogota, Colombia; c/o LITOPHARMA, Barranquilla, Colombia; Carrera 8A No. 45B-82, Barranquilla, Colombia; Cedula No. 72175536 (Colombia) (individual) [SDNT].

RENGIFO SAAVEDRA, Carmen Hermencia, c/o COOPERATIVA DE TRABAJO ASOCIADO ACTIVAR, Bogota, Colombia; c/o COPSERVIR LTDA., Bogota, Colombia; Calle 14 No. 48A-19, Cali, Colombia; Carrera 6 No. 11-43 of. 505, Cali, Colombia; DOB 19 Dec 1969; Cedula No. 66738336 (Colombia) (individual) [SDNT].

REYES MONROY, Pablo, c/o CAJA SOLIDARIA, Bogota, Colombia; c/o COPSERVIR LTDA., Bogota, Colombia; c/o SEGECOL LTDA., Bucaramanga, Colombia; Cedula No. 91265116 (Colombia) (individual) [SDNT].

RIBON RODRIGUEZ, Wilmen, c/o CAJA SOLIDARIA, Bogota, Colombia; c/o COPSERVIR LTDA., Bogota, Colombia; c/o LITOPHARMA, Barranquilla, Colombia; Calle 61 No. 47-21, Barranquilla, Colombia; Calle 61 No. 47-22 Piso 2, Barranquilla, Colombia; Cedula No. 91223795 (Colombia) (individual) [SDNT].

ROMERO BERMUDEZ, Tomas, c/o COPSERVIR LTDA., Bogota, Colombia; c/o LITOPHARMA, Barranquilla, Colombia; Carrera 13C No. 36B-100 ap. 403, Barranquilla, Colombia; Cedula No. 72206669 (Colombia) (individual) [SDNT].

SANABRIA SANABRIA, Pablo Emilio, c/o CAJA SOLIDARIA, Bogota, Colombia; c/o COPSERVIR LTDA., Bogota, Colombia; c/o FARMAVISION LTDA., Bogota, Colombia; Avenida Dorado No. 73-62, Bogota, Colombia; Cedula No. 79579826 (Colombia) (individual) [SDNT].

SANDOVAL AHIUMADA, Mavenka, c/o CAJA SOLIDARIA, Bogota, Colombia; c/o COPSERVIR LTDA., Bogota, Colombia; c/o LITOPHARMA, Barranquilla, Colombia; Cedula No. 32873688 (Colombia) (individual) [SDNT].

SANDOVAL GUARIN, Luz Stella, c/o COPSERVIR LTDA., Bogota, Colombia; c/o LITOPHARMA, Barranquilla, Colombia; Carrera 26C 7 No. 76A-75 ap. 2A, Barranquilla, Colombia; Cedula No. 32608167 (Colombia) (individual) [SDNT].

SOLIS HERNANDEZ, Damaris, c/o CAJA SOLIDARIA, Bogota, Colombia; c/o COOMULCOSTA, Barranquilla, Colombia; c/o COPSERVIR LTDA., Bogota, Colombia; Cedula No. 32669869 (Colombia) (individual) [SDNT].

URDINOLA BETANCOURT, Maritza, c/o CAJA SOLIDARIA, Bogota, Colombia; c/o COPSERVIR LTDA., Bogota, Colombia; DOB 16 Nov 1962; Cedula No. 31893467 (Colombia); Passport 31893467 (Colombia) (individual) [SDNT].

VARGAS GARCIA, Carlos Alberto, Quito, Ecuador; c/o RIONAP COMERCIO Y REPRESENTACIONES S.A., Quito, Ecuador; c/o DISTRIBUIDORA DE DROGAS CONDOR LTDA., Bogota, Colombia; Cedula No. 4578620 (Colombia) (individual) [SDNT].

Dated: July 1, 2009.
Adam J. Szubin,
Director, Office of Foreign Assets Control.

[FR Doc. E9-16153 Filed 7-8-09; 8:45 am]

BILLING CODE 4811-45-P